DEPARTMENT OF DEFENSE

Department of the Air Force

Air University Board of Visitors Meeting

AGENCY: Air University Board of Visitors, Department of Air Force, DOD.

ACTION: Notice of meeting.

SUMMARY: Under the provisions of the Federal Advisory Committee Act and the Government in the Sunshine Act, the Department of Defense announces the Air University Board of Visitors' fall meeting. The purpose of this meeting is to provide independent advice and recommendations on matters pertaining to the educational, doctrinal, and research policies and activities of Air University.

DATES: The meeting will take place on Monday, 16 April 2018, from 8:00 a.m. to approximately 5 p.m. and Tuesday, 17 April 2018, from 7:30 a.m. to approximately 3:00 p.m. Central Standard Time.

ADDRESSES: The meeting will be held in the Air University Commander's Conference Room located in Building 800 at Maxwell Air force Base, AL.

FOR FURTHER INFORMATION CONTACT: Dr. Shawn O'Mailia, Designated Federal Officer, Air University Headquarters, 55 LeMay Plaza South, Maxwell Air Force Base, Alabama 36112-6335, telephone (334) 953-4547.

SUPPLEMENTARY INFORMATION: The agenda will include topics relating to the policies, programs, and initiatives of Air University educational programs and will include an out brief from the Air Force Institute of Technology and Community College of the Air Force Subcommittees.

Pursuant to 5 U.S.C. 552b, as amended, and 41 CFR 102-3.155 all sessions of the Air University Board of Visitors' meetings' will be open to the public. Any member of the public wishing to provide input to the Air University Board of Visitors' should submit a written statement in accordance with 41 CFR 102-3.140(c) and section 10(a)(3) of the Federal Advisory Committee Act and the procedures described in this paragraph. Written statements can be submitted to the Designated Federal Officer at the address detailed below at any time. Statements being submitted in response to the agenda mentioned in this notice must be received by the Designated Federal Officer at the address listed below at least ten calendar days prior tothe meeting which is the subject of this notice. Written statements received after this date may not be provided to or considered by the Air University Board of Visitors until its next meeting. The Designated Federal Officer will review all timely submissions with the Air University Board of Visitors' Board Chairperson and ensure they are provided to members of the Board before the meeting that is the subject of this notice. Any member of the public wishing to attend this meeting should contact the Designated Federal Officer listed below at least ten calendar days prior to the meeting for information on base entry procedures.

Henry Williams,
Acting Air Force Federal Register Liaison Officer.

[FR Doc. 2018-03498 Filed 2-28-18; 8:45 am]

BILLING CODE 5001-10-P